DEPARTMENT OF DEFENSE

Department of the Army

32 CFR Part 527

RIN 0702-AA48

Personal Check Cashing Control and Abuse Prevention

AGENCY: Department of the Army, DoD.

ACTION: Final rule; removal.

SUMMARY: This action removes 32 CFR Part 527, Personnel Check Cashing Control and Abuse Prevention, published in the Federal Register, May 27, 1988 (53 FR 19286). The rule is being removed because it is obsolete and no longer governs policies to control and prevent abuse of check-chasing privileges on Army installations. The program responsibility has been transferred to the Office of the Comptroller of the Department of Defense.

DATES: Effective April 11, 2005.

ADDRESSES: U.S. Army Records Management and Declassification Agency (AHRC-PDD-RP), Casey Building, Room 102, 7701 Telegraph Road, Alexandria, VA 22315-3860.

FOR FURTHER INFORMATION CONTACT: Ms. Brenda Bowen, (703) 428-6422.

SUPPLEMENTARY INFORMATION: The responsibility for this program was originally with the Department of the Army and was published as 32 CFR part 527. The program responsibility was transferred to the Office of the Comptroller of the Department of Defense and is now covered by the DoD Financial Management Regulation (DoDFMR), Volume 5, chapter 4 which replaces the requirements formerly set forth. Therefore, to avoid confusion with the public, 32 CFR part 527 is removed.

List of Subjects in 32 CFR Part 527

Personal check cashing control and Abuse prevention.

PART 527—[REMOVED]

Accordingly, for reasons stated in the preamble, under the authority of 5 U.S.C. 5511-5512; 37 U.S.C. 1007; 18 U.S.C. 1382; Articles 123a, 133, and 134, Uniform Code of Military Justice (UCMJ), 32 CFR part 527, Personal Check Cashing Control and Abuse Prevention, is removed in its entirety.

Brenda S. Bowen,
Army Federal Register Liaison Officer.

[FR Doc. 05-7164 Filed 4-8-05; 8:45 am]

BILLING CODE 3710-08-M